NATIONAL CREDIT UNION ADMINISTRATION

Submission for OMB Review; Comment Request

AGENCY: National Credit Union Administration (NCUA).

ACTION: Notice.

SUMMARY: The National Credit Union Administration (NCUA) will be submitting the following information collection requests to the Office of Management and Budget (OMB) for review and clearance in accordance with the Paperwork Reduction Act of 1995, on or after the date of publication of this notice.

DATES: Written comments should be received on or before October 30, 2020 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submission may be obtained by contacting Mackie Malaka at (703) 548-2704, emailing PRAComments@ncua.gov, or viewing the entire information collection request at www.reginfo.gov.

SUPPLEMENTARY INFORMATION:

OMB Number: 3133-0040.

Title: Federal Credit Union Occupancy, Planning, and Disposal of Acquired and Abandoned Premises, 12 CFR 701.36.

Type of Review: Extension of a currently approved collection.

Abstract: The Federal Credit Union Act authorizes an FCU to purchase, hold, and dispose of property necessary or incidental to its operations under Section 107(4). NCUA Rules and Regulations implements this statute by including three parts to the information collection associated with the rule: Waiver of requirement for partial occupation, waiver of requirement to dispose of abandoned property and waiver of prohibited transactions. NCUA responds to the waivers by either granting or denying the request, or otherwise compromising to meet the needs of the credit union without raising safety and soundness concerns.

Affected Public: Private sector: Not-for-profit institutions.

Estimated Total Annual Burden Hours: 30.

OMB Number: 3133-0127.

Title: Purchase, Sale and Pledge of Eligible Obligations, 12 CFR 701.23.

Type of Review: Extension of a currently approved collection.

Abstract: The Federal Credit Union Act limits the amount of eligible obligations a federal credit union (FCU) is permitted to purchase, sell, pledge, discount, receive or dispose of under Section 107(13), 12 U.S.C. 107. NCUA's rules and regulations further govern this limitation by prescribing additional requirements under § 701.23. The various information collections are in place to ensure a FCU's activities related to the purchase, sale, and pledge of eligible obligations comply with applicable laws and are conducted in a safe and sound manner.

Affected Public: Private sector: Not-for-profit institutions.

Estimated Total Annual Burden Hours: 12,748.

OMB Number: 3133-0141.

Title: Organization and Operation of Federal Credit Unions—Loan Participations, 12 CFR 701.22.

Type of Review: Extension of a currently approved collection.

Abstract: NCUA rules and regulations, §§ 701.22 and 741.225, outline the requirements for a loan participation program. Federally insured credit unions (FICU) are required to execute a written loan participation agreement with the lead lender. Additionally, the rule requires all FICUs to maintain a loan participation policy that establishes underwriting standards and maximum concentration limits. Credit unions may apply for waivers on certain key provisions of the rule. NCUA reviews the loan participation policies and through these reviews determine whether the credit union is engaging in a safe and sound loan participation program.

Affected Public: Private sector: Not-for-profit institutions.

Estimated Total Annual Burden Hours: 3,025.

OMB Number: 3133-0189.

Title: Contractor Budget and Contractor Representation and Certification.

Form: NCUA 3249a and 3249b.

Type of Review: Extension of a currently approved collection.

Abstract: Standardized information from prospective outside counsel is essential to the NCUA in carrying out its responsibility as regulator, conservator, and liquidating agent for federally insured credit unions. The information will enable the NCUA to further standardize the data it uses to select outside counsel, consider additional criteria in making its selections, and improve efficiency and recordkeeping related to its selection process.

Affected Public: Private Sector: Business or other for-profits.

Estimated Total Annual Burden Hours: 200.

OMB Number: 3133-0061.

Title: Central Liquidity Facility, 12 CFR part 725.

Forms: NCUA Forms 7001, 7002, 7003, 7004, 8700C, CLF 8702, and CLF 8703.

Type of Review: Extension of currently approved collection.

Abstract: Part 725 contains the regulations implementing the National Credit Union Central Liquidity Facility Act, subchapter III of the Federal Credit Union Act. The NCUA Central Liquidity Facility is a mixed-ownership Government corporation within NCUA. It is managed by the NCUA Board and is owned by its member credit unions. The purpose of the Facility is to improve the general financial stability of credit unions by meeting their liquidity needs and thereby encourage savings, support consumer and mortgage lending and provide basic financial resources to all segments of the economy. The Central Liquidity Facility achieves this purpose through operation of a Central Liquidity Fund (CLF). The collection of information under this part is necessary for the CLF to determine credit worthiness, as required by 12 U.S.C 1795e(2).

Affected Public: Private Sector: Not-for profit institutions.

Estimated Total Annual Burden Hours: 691.

By Gerard Poliquin, Secretary of the Board, the National Credit Union Administration, on September 24, 2020.

Dated: September 24, 2020.
Mackie I. Malaka,
NCUA PRA Clearance Officer.

[FR Doc. 2020-21567 Filed 9-29-20; 8:45 am]

BILLING CODE 7535-01-P